ENVIRONMENTAL PROTECTION AGENCY

[FRL-8966-5; Docket ID No. EPA-HQ-ORD-2009-0613]

Exposure Factors Handbook: 2009 Update

AGENCY: Environmental Protection Agency (EPA).

ACTION: Notice of public comment period.

SUMMARY: EPA is announcing a 60-day public comment period for the external review draft document titled, “Exposure Factors Handbook: 2009 Update” (EPA/600/R-09/052A), which was prepared by the National Center for Environmental Assessment (NCEA) within EPA's Office of Research and Development (ORD). The Exposure Factors Handbook provides a summary of the available statistical data on various factors used in assessing human exposure. This Handbook is aimed at exposure assessors inside the Agency as well as those outside who use data on standard factors to calculate human exposure to toxic chemicals. These factors include: drinking water consumption; mouthing behavior; soil ingestion rates; inhalation rates; dermal factors, including skin area and soil adherence factors; consumption of fruits and vegetables, fish, meats, dairy products, and homegrown foods; breast milk intake; human activity factors; consumer product use; and residential characteristics. Recommended values are for the general population and also for various segments of the population who may have characteristics different from the general population. An external peer-review workshop is expected to be scheduled at a later date and announced in the Federal Register. The public comment period and the external peer-review workshop are separate processes that provide opportunities for all interested parties to comment on the document. EPA intends to forward the public comments that are submitted in accordance with this notice to the external peer-review panel prior to the meeting for their consideration. When finalizing the draft document, EPA intends to consider any public comments that EPA receives in accordance with this notice.

EPA is releasing this draft document solely for the purpose of pre-dissemination peer review under applicable information quality guidelines. This document has not been formally disseminated by EPA. It does not represent and should not be construed to represent any Agency policy or determination.

The draft document and EPA's peer-review charge are available via the Internet on the NCEA home page under the Recent Additions and the Data and Publications menus at http://www.epa.gov/ncea.

DATES: The 60-day public comment period begins October 7, 2009, and ends December 7, 2009. Technical comments should be in writing and must be received by EPA by December 7, 2009.

ADDRESSES: The external review draft “Exposure Factors Handbook: 2009 Update” is available primarily via the Internet on the National Center for Environmental Assessment's home page under the Recent Additions and the Data and Publications menus at http://www.epa.gov/ncea. A limited number of CDs are available from NCEA's Information Management Team, NCEA; telephone: 703-347-8561; facsimile: 703-347-8691. If you are requesting a CD, please provide your name, your mailing address, and the document title, “Exposure Factors Handbook: 2009 Update.”

Comments may be submitted electronically via http://www.regulations.gov, by mail, by facsimile, or by hand delivery/courier. Please follow the detailed instructions provided in the SUPPLEMENTARY INFORMATION section of this notice.

FOR FURTHER INFORMATION CONTACT: For information on the public comment period, contact the Office of Environmental Information Docket; telephone: 202-566-1752; facsimile: 202-566-1753; or e-mail: ORD.Docket@epa.gov.

For technical information, contact Jacqueline Moya, NCEA; telephone: 703-347-8539; facsimile: 703-347-8694; or e-mail: moya.jacqueline@epa.gov.

SUPPLEMENTARY INFORMATION:

I. How To Submit Technical Comments to the Docket at http://www.regulations.gov

Submit your comments, identified by Docket ID No. EPA-HQ-ORD 2009-0613 by one of the following methods:

• http://www.regulations.gov: Follow the on-line instructions for submitting comments.

• E-mail: ORD.Docket@epa.gov.

• Fax: 202-566-1753.

• Mail: Office of Environmental Information (OEI) Docket (Mail Code: 2822T), U.S. Environmental Protection Agency, 1200 Pennsylvania Ave., NW., Washington, DC 20460. The phone number is 202-566-1752.

• Hand Delivery: The OEI Docket is located in the EPA Headquarters Docket Center, Room 3334 EPA West Building, 1301 Constitution Ave., NW., Washington, DC. The EPA Docket Center's Public Reading Room is open from 8:30 a.m. to 4:30 p.m., Monday through Friday, excluding legal holidays. The telephone number for the Public Reading Room is 202-566-1744. Such deliveries are only accepted during the docket's normal hours of operation, and special arrangements should be made for deliveries of boxed information.

If you provide comments by mail or hand delivery, please submit three copies of the comments. For attachments, provide an index, number pages consecutively with the comments, and submit an unbound original and three copies.

Instructions: Direct your comments to Docket ID No. EPA-HQ-ORD-2009-0613. Please ensure that your comments are submitted within the specified comment period. Comments received after the closing date will be marked “late,” and may only be considered if time permits. It is EPA's policy to include all comments it receives in the public docket without change and to make the comments available online at http://www.regulations.gov, including any personal information provided, unless a comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: Documents in the docket are listed in the http://www.regulations.gov index. Although listed in the index, some information is not publicly available, e.g., CBI or other information whose disclosure is restricted by statute. Certain other materials, such as copyrighted material, are publicly available only in hard copy. Publicly available docket materials are available either electronically in http://www.regulations.gov or in hard copy at the OEI Docket in the EPA Headquarters Docket Center.

Dated: September 30, 2009.
Peter Preuss,
Director, National Center for Environmental Assessment.

[FR Doc. E9-24189 Filed 10-6-09; 8:45 am]

BILLING CODE 6560-50-P